DEPARTMENT OF COMMERCE

International Trade Administration

[A-570-972, A-583-848]

Stilbenic Optical Brightening Agents From the People's Republic of China and Taiwan: Final Results of the Expedited Second Sunset Reviews of the Antidumping Duty Orders

AGENCY: Enforcement and Compliance, International Trade Administration, Department Commerce.

SUMMARY: As a result of these expedited sunset reviews, the U.S. Department of Commerce (Commerce) finds that revocation of the antidumping duty orders on stilbenic optical brightening agents (OBAs) from the People's Republic of China (China) and Taiwan would be likely to lead to continuation or recurrence of dumping at the levels indicated in the “Final Results of Expedited Sunset Reviews” section of this notice.

DATES: Applicable November 8, 2024.

FOR FURTHER INFORMATION CONTACT: Joshua Weiner, AD/CVD Operations, Office I, Enforcement and Compliance, International Trade Administration, U.S. Department of Commerce, 1401 Constitution Avenue NW, Washington, DC 20230; telephone: (202) 482-3902.

SUPPLEMENTARY INFORMATION:

Background

In 2012, Commerce published in the Federal Register the orders with respect to OBAs from the China and Taiwan.¹ On July 1, 2024, Commerce published in the Federal Register the initiation of the second sunset reviews of the Orders on OBAs from China and Taiwan, in accordance with section 751(c) of the Tariff Act of 1930, as amended (the Act).²

¹ See Certain Stilbenic Optical Brightening Agents from the People's Republic of China: Amended Final Determination of Sales at Less Than Fair Value and Antidumping Duty Order, 77 FR 27423 (May 10, 2012); and Certain Stilbenic Optical Brightening Agents from Taiwan: Amended Final Determination of Sales at Less Than Fair Value and Antidumping Duty Order, 77 FR 27419 (May 10, 2012) (collectively, Orders).

² See Initiation of Five-Year (Sunset) Reviews, 89 FR 54435 (July 1, 2024) (Initiation Notice).

On July 15, 2024, we received a timely notice of intent to participate in these sunset reviews from Archroma U.S. Inc. (Archroma), a domestic interested party, pursuant to 19 CFR 351.218(d)(1)(i).³ Archroma claimed interested party status under section 771(9)(C) of the Act as a manufacturer of a domestic like product in the United States. On July 23, 2024, Archroma provided complete substantive responses for these reviews within the 30-day deadline as specified in 19 CFR 351.2218(d)(3)(i).⁴ Commerce did not receive substantive responses from respondent interested parties. On August 21, 2024, Commerce notified the U.S. International Trade Commission (ITC) that it did not receive an adequate substantive response from other interested parties.⁵ As a result, in accordance with section 751(c)(3)(B) of the Act and 19 CFR 351.218(e)(1)(ii)(C)(2), Commerce conducted expedited, i.e., 120-day, sunset reviews of the Orders. On July 22, 2024, Commerce tolled certain deadlines in this administrative proceeding by seven days.⁶ The deadline for these final results is November 5, 2024.

³ See Archroma's Letters, “Notice of Intent to Participate,” dated July 15, 2024.

⁴ See Archroma's Letters, “Substantive Response,” dated July 23, 2024.

⁵ See Commerce's Letter, “Sunset Reviews for July 2024,” dated August 21, 2024.

⁶ See Memorandum, “Tolling of Deadlines for Antidumping and Countervailing Duty Proceedings,” dated July 22, 2024.

Scope of the Orders

The product covered by the Orders are OBAs. For a full description of the scope of the Orders, see the Issues and Decision Memorandum.⁷

⁷ See Memorandum, “Issues and Decision Memorandum for the Final Results of the Expedited Second Sunset Reviews of the Antidumping Duty Orders on Stilbenic Optical Brightening Agents from the People's Republic of China and Taiwan,” dated concurrently with, and hereby adopted by, this notice (Issues and Decision Memorandum).

Analysis of the Comments Received

All issues raised in these sunset reviews, including the likelihood of continuation or recurrence of dumping in the event of revocation of the Orders and the magnitude of the margins of dumping likely to prevail if the Orders were to be revoked, are addressed in the Issues and Decision Memorandum. A list of topics discussed in the Issues and Decision Memorandum is included as an appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Final Results of Sunset Reviews

Pursuant to sections 751(c)(1) and 752(c)(1) and (3) of the Act, Commerce determines that revocation of the Orders would be likely to lead to continuation or recurrence of dumping and that the magnitude of the margins of dumping likely to prevail would be margins up to 106.17 percent for China and up to 6.19 percent for Taiwan.

Administrative Protective Order

This notice serves as the only reminder to parties subject to an administrative protective order (APO) of their responsibility concerning the disposition of proprietary information disclosed under APO in accordance with 19 CFR 351.305(a). Timely written notification of the return or destruction of APO materials or conversion to judicial protective order is hereby requested. Failure to comply with the regulations and terms of an APO is a violation which is subject to sanction.

Notification to Interested Parties

We are issuing and publishing these final results in accordance with sections 751(c), 752(c), and 777(i)(1) of the Act, and 19 CFR 351.218(e)(1)(ii)(C)(2) and 19 CFR 351.221(c)(5)(ii).

Dated: November 5, 2024.
Abdelali Elouaradia,
Deputy Assistant Secretary for Enforcement and Compliance.

Appendix

List of Topics Discussed in the Issues and Decision Memorandum

I. Summary

II. Background

III. Scope of the Orders

IV. History of the Orders

V. Legal Framework

VI. Discussion of the Issues

1. Likelihood of Continuation or Recurrence of Dumping

2. Magnitude of the Margins of Dumping Likely to Prevail

VII. Final Results of Expedited Sunset Reviews

VIII. Recommendation

[FR Doc. 2024-26020 Filed 11-7-24; 8:45 am]

BILLING CODE 3510-DS-P